DEPARTMENT OF JUSTICE

Notice of Lodging of Proposed Consent Decree Under the Clean Water Act

On February 10, 2020, the Department of Justice lodged a proposed consent decree with the United States District Court for the District of Maine in the lawsuits entitled United States of America v. Grimmel Industries, Inc., et al., Civil Action No. 2:16-cv-190 (LEW), and United States of America v. Kennebec Scrap Iron, Inc., Civil Action No. 1:16-191 (LEW).

The United States filed the complaints in these Clean Water Act cases against the Defendants on April 1, 2016. The United States District Court for the District of Maine consolidated these actions on May 7, 2019. The complaints alleged that the Defendants, Grimmel Industries, Inc., Grimmel Industries LLC, Gary Grimmel, and Kennebec Scrap Iron, Inc., violated the stormwater Multi-Sector General Permits (“MSGPs”) issued by the Maine Department of Environmental Protection under Section 402(b) of the Clean Water Act, 42 U.S.C. 1342(b). The complaints sought civil penalties and injunctive relief for alleged violations of the permits at scrap metal facilities operated by Defendants located at 80 Pejepscot Village, Topsham, Maine, 50 River Road, Lewiston, Maine, and 48 Broomhandle Road, Oakland, Maine (the “Facilities”). The alleged violations included inadequate stormwater pollution prevention plans; failure to effectively maintain stormwater best management practices; failure to perform good housekeeping procedures; failure to conduct or properly conduct benchmark monitoring and quarterly visual monitoring; failure to properly perform monitoring as ordered by the Maine Department of Environmental Protection; failure to conduct quarterly site evaluations; and failure to properly train employees. The Grimmel Industries complaint also alleged failures to comply with Spill Prevention Control and Countermeasure (“SPCC”) requirements under 40 CFR part 112.

Under the Proposed Consent Decree, the United States will dismiss Defendant Gary Grimmel without prejudice. The remaining Defendants must revise their stormwater management plans and revise sampling procedures at the Facilities in accordance with the current stormwater permit issued by the Maine Department of Environmental Protection. The remaining Defendants must pay $250,000 in civil penalties, $25,000 of which will be allocated to the Oil Spill Liability Trust Fund in satisfaction of the alleged violations of the SPCC regulations. Under the proposed consent decree, the United States covenants not to sue the Defendants under Sections 309(b), 309(g), or 311(b)(6)-(7)(C) of the Clean Water Act, 33 U.S.C. 1319(b), 1319(g) and 1321(b)(6)-(7)(C), for civil violations at the Facilities through the date of lodging of the consent decree related to the MSGPs, or of the SPCC regulations promulgated at 40 CFR part 112.

The publication of this notice opens a period for public comment on the proposed consent decree. Comments should be addressed to the Assistant Attorney General, Environment and Natural Resources Division, Environmental Enforcement Section, and should refer to United States v. Grimmel Industries, Inc., et al., D.J. Ref. No. 90-5-1-1-11209. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $7.75 (25 cents per page reproduction cost) payable to the United States Treasury.

Henry Friedman,
Assistant Section Chief, Environmental Enforcement Section, Environment and Natural Resources Division.

[FR Doc. 2020-03292 Filed 2-19-20; 8:45 am]

BILLING CODE 4410-15-P